DEPARTMENT OF HOMELAND SECURITY

Coast Guard

33 CFR Part 100

[Docket No. USCG-2022-0621]

Special Local Regulation; 95th Hampton Cup Regatta; Mill Creek, Hampton, VA

AGENCY: Coast Guard, DHS.

ACTION: Notification of enforcement of regulation.

SUMMARY: The Coast Guard will enforce a special local regulation for the 95th Hampton Cup Regatta on Mill Creek, Hampton, VA, on September 17th and 18th, 2022, to provide for the safety of life on navigable waterways during this event. Coast Guard regulations for marine events within the Fifth Coast Guard District identifies the regulated area for this event. During the enforcement periods, entry of vessels or persons into this zone is prohibited unless specifically authorized by the Captain of the Port Virginia.

DATES: The regulations in 33 CFR 100.501 will be enforced for the location identified for the Hampton Cup Regatta in table 3 to paragraph (i)(3) from 10 a.m. until 5 p.m. on September 17 and 18, 2022.

FOR FURTHER INFORMATION CONTACT: If you have questions about this notification of enforcement, call or email LCDR Ashley Holm, Chief, Waterways Management Division, Sector Virginia, U.S. Coast Guard; telephone 757-668-5580; email Ashley.E.Holm@uscg.mil.

SUPPLEMENTARY INFORMATION: The Coast Guard will enforce the special local regulation in 33 CFR 100.501 for the Hampton Cup Regatta from 10 a.m. to 5 p.m. on September 17th and 18th, 2022. This action is being taken to provide for the safety of life on navigable waterways during this event. Coast Guard regulations for marine events within the Fifth Coast Guard District, § 100.501, specifies the location of the regulated area for the Hampton Cup Regatta which encompasses portions of Mill Creek. During the enforcement periods, entry of vessels or persons into this zone is prohibited unless specifically authorized by the Captain of the Port.

In addition to this notification of enforcement in the Federal Register, the Coast Guard plans to provide notification of this enforcement period via the Local Notice to Mariners and Broadcast Notice to Mariners.

Dated: August 16, 2022.
Jennifer A. Stockwell,
Captain, U.S. Coast Guard, Captain of the Port Virginia.

[FR Doc. 2022-18034 Filed 8-19-22; 8:45 am]

BILLING CODE 9110-04-P